DEPARTMENT OF ENERGY

Federal Energy Regulatory Commission

[Docket No. RP00-413-001]

Pine Needle LNG Company, LLC; Notice of Compliance Filing

May 2, 2002.

Take notice that on April 29, 2002, Pine Needle LNG Company, LLC (Pine Needle), submits this filing to comply with the Federal Energy Regulatory Commission's (Commission) order issued March 29, 2002 in the referenced dockets related to Order 637, 587-G and 587-L compliance. Included herein are revised tariff sheets to its FERC Gas Tariff, Original Volume No. 1. The enclosed tariff sheets, which are enumerated in Appendix A hereto, are proposed to be effective as described more fully herein.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-11412 Filed 5-7-02; 8:45 am]

BILLING CODE 6717-01-P